DEPARTMENT OF AGRICULTURE

Submission for OMB Review; Comment Request

November 7, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725-17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by December 13, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Survey of Irrigation Organizations.

OMB Control Number: 0535-NEW.

Summary of Collection: On April 4, 2017, the USDA National Agricultural Statistics Service (NASS) and the Economic Research Service (ERS), signed a Memorandum of Understanding. This agreement is for the development and implementation of a survey of irrigation organizations—defined to include irrigation districts and other entities that supply water (primarily surface water) directly to agricultural users, as well as groundwater management districts that may influence the supply of groundwater for irrigation. The new survey of irrigation organizations will collect local, district-scale information, including the adoption of alternative types of water allocation institutions and conservation policies that impact farm-level drought resilience and adaptation to long-run water scarcity.

Need and Use of the Information: NASS will be collecting information on facilities, operation type, revenue, costs, and practices for irrigation organizations. The data obtained by the survey will complement farm-level data collections efforts, providing a more comprehensive look at the water situation and drought preparedness of the United States. The absence of the data would certainly affect irrigation policy decisions, Federal programs, legislation, and impact studies would be subject to greater uncertainty and error.

Description of Respondents: Businesses or other for-profit; Not for profit institutions.

Number of Respondents: 6,500.

Frequency of Responses: Reporting: Annually.

Total Burden Hours: 5,644.

Ruth Brown,
Departmental Information Collection Clearance Officer.

[FR Doc. 2019-24647 Filed 11-12-19; 8:45 am]

BILLING CODE 3410-20-P